NUCLEAR REGULATORY COMMISSION

[Docket Nos. 50-498 and 50-499]

STP Nuclear Operating Company; Notice of Withdrawal of Application for Amendments to Facility Operating Licenses

The U.S. Nuclear Regulatory Commission (NRC/the Commission) has granted the request of STP Nuclear Operating Company (the licensee) to withdraw its July 4, 2005, application for the proposed amendments to Facility Operating License No. NPF-76, to be issued to the licensee for operation of the South Texas Project, Unit 1; and Facility Operating License No. NPF-80, to be issued to the licensee for South Texas Project, Unit 2; located in Matagorda County, Texas.

The proposed amendments would have modified the facility technical specifications (TSs) to extend allowed outage time for TS 3.7.4, “Essential Cooling Water System,” and associated TSs for those systems that are supported by Essential Cooling Water, from 7 days to 14 days.

The Commission had previously issued a Notice of Consideration of Issuance of Amendments published in the Federal Register on August 2, 2005 (70 FR 44403). However, by letter dated September 13, 2006, the NRC informed the licensee that the NRC would consider the proposed application for the amendments to be withdrawn unless the licensee notified the NRC by September 21, 2006, that our understanding was incorrect. Thus, the July 4, 2005, application for the amendments is considered to be withdrawn by the licensee.

For further details with respect to this action, see (1) the application for the amendments dated July 4, 2005, and (2) the NRC staff's letter dated September 21, 2006, which withdrew the application for the license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 25th day of September 2006.
For the Nuclear Regulatory Commission.
Mohan C. Thadani,
Senior Project Manager, Plant Licensing Branch IV, Division of Operating Reactor Licensing, Office of Nuclear Reactor Regulation.

[FR Doc. E6-16016 Filed 9-28-06; 8:45 am]

BILLING CODE 7590-01-P